DEPARTMENT OF COMMERCE

National Oceanic and Atmospheric Administration

50 CFR Part 300

[Docket No. 180716667-9383-02]

RIN 0648-BI36

International Fisheries; Pacific Tuna Fisheries; 2019 and 2020 Commercial Fishing Restrictions for Pacific Bluefin Tuna in the Eastern Pacific Ocean

AGENCY: National Marine Fisheries Service (NMFS), National Oceanic and Atmospheric Administration (NOAA), Commerce.

ACTION: Final rule.

SUMMARY: The National Marine Fisheries Service (NMFS) is issuing regulations under the Tuna Conventions Act of 1950 (TCA) to implement Inter-American Tropical Tuna Commission (IATTC) Resolution C-18-01 (Measures for the Conservation and Management of Bluefin Tuna in the Eastern Pacific Ocean, 2019-2020) and Resolution C-18-02 (Amendment to Resolution C-16-08 on a Long-term Management Framework for the Conservation and Management of Pacific Bluefin Tuna in the Eastern Pacific Ocean). This rule would implement annual limits on commercial catch of Pacific bluefin tuna (Thunnus orientalis) in the eastern Pacific Ocean (EPO) for 2019 and 2020. This action is necessary to conserve Pacific bluefin tuna (PBF) and for the United States to satisfy its obligations as a member of the IATTC.

DATES: The final rule is effective May 8, 2019.

ADDRESSES: Written comments regarding the burden-hour estimates or other aspects of the collection-of-information requirements contained in this final rule may be submitted to NMFS West Coast Region (WCR) Sustainable Fisheries Division (SFD), 501 W Ocean Blvd., Suite 4200, Long Beach, CA 90208, and by email to OIRA_Submission@omb.eop.gov or fax to (202) 395-5806.

Copies of supporting documents are available via the Federal eRulemaking Portal: http://www.regulations.gov, docket NOAA-NMFS-2018-0126, or contact the Acting Highly Migratory Species Branch Chief, Rachael Wadsworth, NMFS WCR SFD, 501 W Ocean Blvd., Suite 4200, Long Beach, CA 90208, or WCR.HMS@noaa.gov.

FOR FURTHER INFORMATION CONTACT: Celia Barroso, NMFS WCR SFD, (562) 432-1850, Celia.Barroso@noaa.gov.

SUPPLEMENTARY INFORMATION:

Background

On December 27, 2018, NMFS published a proposed rule in the Federal Register to revise regulations at 50 CFR part 300, subpart C, for the commercial catch of PBF applicable to U.S. commercial vessels in 2019-2020 (83 FR 66665). The public comment period was open for 30 days. However, due to a partial lapse in appropriations, the Federal e-Rulemaking Portal link in the proposed rule used to provide public comment was not active. Consequently, NMFS re-opened the public comment period for an additional 15 days (February 19, 2019; 84 FR 4758).

This final rule is implemented under the authority of the TCA (16 U.S.C. 951 et seq.), which directs the Secretary of Commerce, after approval by the Secretary of State, to promulgate regulations as necessary to implement resolutions adopted by the IATTC. The Secretary of Commerce has delegated this authority to NMFS.

The proposed rule contains additional background information on the IATTC, the international obligations of the United States as a member of the IATTC, and the need for regulations. Changes from the proposed rule, and public comments received, are addressed below.

New Regulations for Commercial Pacific Bluefin Tuna for 2019-2020

This final rule establishes catch and trip limits for U.S. commercial fishing vessels that catch PBF in the IATTC Convention Area. The IATTC Convention Area is defined as the area bounded by the west coast of the Americas, the 50° N and 50° S parallels, the 150° W meridian, and the waters of the eastern Pacific Ocean (EPO). The rule also establishes pre-trip notification requirements and accelerated landing receipt submission deadlines for 2019 and 2020.

Catch Limit for 2019 and 2020

The U.S. biennial catch limit for 2019 and 2020 is 630 metric tons (mt) for U.S. commercial fishing vessels, which includes the addition of 30 mt resulting from an under-harvest from the previous biennial limit, as provided for in Resolutions C-18-01 and C-18-02. The 2019 catch limit is 425 mt. NMFS will announce the 2020 catch limit in a Federal Register notice, which will be calculated as the amount caught in 2019 subtracted from the biennial limit, but not to exceed 425 mt.

Trip Limits

For 2019 and 2020, NMFS is implementing a 15-mt trip limit for each U.S. commercial fishing vessel until catch is within 50 mt of the annual limit, at which time the trip limit will be reduced to 2 mt per vessel through the end of the year, or until the fishery is closed. However, if the annual limit in 2020 is 125 mt or less, the trip limit will be 2 mt for each U.S. commercial fishing vessel for the entire calendar year, or until the fishery is closed.

Landing Receipt Submission

Under the California Code of Regulations, electronic landing receipts (i.e., E-tickets) will be required as of July 1, 2019, and must be submitted within three business days of landing (Title 14, § 197). This final rule requires E-tickets that include PBF landings in California to be submitted within 24 hours of landing, which is 48 hours earlier than the deadline established under State regulations. This accelerated submission deadline will assist NMFS in monitoring the catch limits and anticipate when these limits will be reached.

Pre-Trip Notification

When the trip limit is 15 mt, purse seine vessels are required to submit a pre-trip notification to NMFS, at least 24 hours in advance of the fishing trip, in order to retain or land more than 2 mt of PBF. The pre-trip notification must include the vessel owner's or operator's name, contact information, vessel name, port of departure, and the intended date of departure for the trip. NMFS will use the contact information provided in the pre-trip notification to notify purse seine vessel owners or operators if an inseason action (i.e., reduction in trip limit or fishery closure) is expected or imposed. The pre-trip notification must be sent by email to pbf.notifications@noaa.gov. A reply will be sent automatically to the vessel operator to confirm receipt of the pre-trip notification.

The pre-trip notification will assist NMFS in tracking catch to manage trip limits and fishery closures. For the purposes of tracking catch of PBF, NMFS will assume that 15 mt of PBF will be caught on every trip for which a pre-trip notification is provided. NMFS will use this and other available fishery information (e.g., landings receipts) to estimate when the overall catch is expected to reach either the threshold to reduce the trip limit (i.e., within 50 mt of the annual limit) or the annual limit. NMFS will make decisions on inseason actions based on those estimates. NMFS encourages purse seine vessel owners or operators to call NMFS at (562) 432-1850 in advance of landing with an estimate of how much PBF was caught on the trip.

Inseason Action Announcements

When NMFS determines that catch is expected to be within 50 mt of the annual limit (based on pre-trip notifications, landing receipts, or other available information), a 2-mt trip limit will be imposed by NMFS, effective upon the time and date that would appear in a notice on the NMFS website (https://www.fisheries.noaa.gov/west-coast/commercial-fishing/pacific-bluefin-tuna-commercial-harvest-status). The reduced trip limit will be announced over a U.S. Coast Guard (USCG) Notice to Mariners, to be broadcast three times per day for four days on USCG channel 16 VHF. NMFS will publish a notice of the reduced trip limit in the Federal Register as soon as practicable. The 2-mt trip limit will be effective upon the date and time on the website notice, unless the inseason action is published in the Federal Register earlier. PBF in excess of 2 mt already on board a fishing vessel on the effective date and time of the notice may be landed within 48 hours of the effective date and time of the notice, provided a pre-trip notification has been submitted. If the annual limit in 2020 is 125 mt or less, NMFS will not provide a notice that the trip limit has been reduced, because the trip limit would be 2 mt for the entire calendar year.

When NMFS determines that the annual catch limit is expected to be reached in 2019 or 2020 (based on pre-trip notifications, landings receipts, or other available fishery information), NMFS will prohibit commercial fishing for, or retention of, PBF for the remainder of the calendar year (i.e., fishery closure). NMFS will provide a notice on the NMFS website, and the USCG would provide a Notice to Mariners three times per day for four days on USCG channel 16 VHF, announcing that the targeting, retaining, transshipping or landing of PBF will be prohibited on a specified effective time and date through the end of that calendar year. Upon that effective date, no U.S. commercial fishing vessel may be used to target, retain on board, transship, or land PBF captured in the Convention Area. However, any PBF already on board a fishing vessel on the effective date may be retained on board, transshipped, and/or landed, to the extent authorized by applicable laws and regulations, provided that they are landed within 14 days of the effective date of the fishery closure. NMFS will then publish a notice of the fishery closure in the Federal Register as soon as practicable.

In 2020, NMFS will publish a notice in the Federal Register announcing the 2020 catch limit.

After landing receipts have been received and the landed catch quantity confirmed, if NMFS learns that the trip limit is reduced early, or the fishery is closed due to an overestimation of catch, NMFS may increase the trip limit to 15 mt or re-open the fishery. NMFS will announce these actions on the NMFS website and by USCG Notice to Mariners to be broadcast three times per day for four days on USCG channel 16 VHF, and publish the inseason action in the Federal Register as soon as practicable.

Changes From the Proposed Rule

NMFS had proposed an annual limit of 300 mt for 2019, which was more restrictive than the annual limit in Resolution C-18-01. NMFS proposed this limit based on a recommendation from the Pacific Fishery Management Council (PFMC) at its September 2018 meeting because it would provide additional assurances that the annual limit in Resolution C-18-01 would not be exceeded. This final rule includes several measures (i.e., lower trip limits, new closure procedures, pre-trip notifications, and accelerated E-ticket submission deadlines) to address the PFMC concern about exceeding the annual limits. After further consideration of comments on the proposed rule, as explained below, discussion at the November 2018 PFMC meeting and the PFMC's Highly Migratory Species Advisory Subpanel recommendation, the final rule increases the 2019 catch limit to 425 mt to be consistent with Resolution C-18-01. This allows vessel operators to optimize catch over the two-year management period in the event that PBF are more available to U.S. vessels in 2019 than in 2020. NOAA's National Weather Service Climate Prediction Center predicts weak El Niño conditions are likely to continue into the summer of 2019. PBF are more abundant in U.S. waters during El Niño conditions and should this climate pattern change, it is possible that PBF will be less abundant in 2020. Therefore, the final rule allows the U.S. fleet to not be additionally constrained by a lower catch limit than provided in the Resolution if more PBF are available in 2019 than 2020.

As described above, coastal purse seine vessel operators would be required to submit a pre-trip notification 24 hours in advance of a trip during the period when the trip limit is 15 mt and only if landing greater than 2 mt of PBF per trip. NMFS had proposed 48 hours in advance of a trip resulting in any landings of PBF, but as a result of a PFMC recommendation and public comment, NMFS has decreased the requirement to 24 hours. A decrease in the time required before a trip to submit a pre-trip notification will provide greater flexibility to the fleet by allowing vessel operators to plan trips targeting PBF a minimum of one day in advance, rather than two. Allowing up to 2 mt to be landed without the pre-trip notification will allow coastal purse seine vessels to potentially harvest PBF incidentally or in small quantities without creating a risk of exceeding the annual limit. The pre-trip notification was not entirely removed from the final rule because it is expected to further effective management of the inseason actions described above. This requirement is particularly important to ensure the United States does not exceed the internationally-agreed annual limit of 425 mt.

Because NMFS has estimated the 2017-2018 catch, the biennial catch limit is definitively 630 mt, which includes 30 mt resulting from the under-harvest of the 2017-2018 catch limit. The regulatory text has been amended to reflect this change.

The proposed rule stated, in the supplementary information section, that if the catch limit in 2020 is 125 mt or less, the trip limit will be 2 mt for the entire calendar year. However, this text was mistakenly left out of the proposed regulatory text. NMFS did not receive any comments on this portion of the proposed rule and this regulatory text was added to the final rule.

Lastly, PBF in excess of 2 mt on board a vessel may be landed within 48 hours of the effective date and time of the notice to reduce the trip limit from 15 mt to 2 mt, provided a pre-trip notification has been submitted. NMFS made this change recognizing that vessels that target PBF in quantities greater than 2 mt may not reach port by the effective date and time.

Catch Reporting

NMFS will provide updates on PBF catches in the Convention Area to the public via the IATTC listserv and the NMFS website: https://www.fisheries.noaa.gov/west-coast/commercial-fishing/pacific-bluefin-tuna-commercial-harvest-status. Specifically, beginning April 15 of each year, NMFS will update the NMFS website weekly, at a minimum, provided the updates do not disclose confidential information (in accordance with Magnuson-Stevens Fishery Conservation and Management Act section 402 (b), 16 U.S.C. 1881a). These updates are intended to help participants in the U.S. commercial fishery plan for reduced trip limits and attainment of the annual limits.

Public Comments and Responses

NMFS received 14 written comments on the proposed rule. Many of the comments had common themes; therefore, they are addressed by topic below.

Comment 1: Six commenters supported the rule. Of these six, two requested additional information on enforcement.

Response: NMFS will monitor landing receipts in coordination with the California Department of Fish and Wildlife to ensure that pre-trip notifications, trip limits, and fishery closures are followed in accordance with regulations. If it is found that an illegal landing potentially took place, the case will be referred to the NMFS Office of Law Enforcement. The NOAA Office of General Counsel reports penalty schedules and policy at the following website: https://www.gc.noaa.gov/enforce-office3.html.

Comment 2: Six commenters expressed concern about either the annual limit proposed for 2019, the pre-trip notification, or both. It was noted, both in public comments submitted on the proposed rule and at the March 2019 PFMC meeting, that the fishery targets PBF opportunistically, and a catch limit of 300 mt could disadvantage the U.S. fleet if PBF are more available in U.S. waters in only one of the two years in which this rule would apply. NMFS increased the annual limit in 2019 to 425 mt in the final rule for reasons explained above in the section, Changes from the Proposed Rule.

Response: NMFS solicited comment on a recommendation from the November 2019 PFMC meeting to reduce the pre-trip notification from 48 hours in advance of a trip, as initially proposed, to 24 hours. Commenters expressed concern that a pre-trip notification, whether 48 or 24 hours, would be burdensome because fishermen often quickly make the decision to target PBF. One commenter also noted that the pre-trip notification is not necessary because of the 24-hour e-ticket requirement. As described above, NMFS reduced the pre-trip notification timeline requirement to 24 hours in this final rule, which is expected to achieve the management goals. NMFS notes that the 24-hour e-ticket requirement is not effective until July 1, 2019, when e-tickets will be required under the California Code of Regulations (Title 14, § 197).

Comment 3: One commenter suggested that a 15-mt trip limit is too low and will lead to incidental discards, and inquired if NMFS had examined the logbooks from 2017.

Response: NMFS notes that logbooks have not been turned in for every trip that resulted in landings of tuna. According to the logbooks NMFS received from trips made in 2017, weight estimates of PBF sets ranged from 1 mt to 25 mt, with an average of 15.1 mt.

Comment 4: Three commenters suggested that PBF are found in schools mixed with skipjack and yellowfin tuna, both of which are target species for the coastal purse seine fishery. These commenters expressed concern that requiring the pre-trip notification could result in discards when more than 2 mt of PBF are caught in association with other tunas and that a 2 mt trip limit would limit yellowfin tuna catches.

Response: NMFS notes that, although mixing could be occurring, this is not supported by the logbook data NMFS has received. In the logbooks submitted to NMFS for 2017 and 2018, only 2 sets out of 97 sets that resulted in catches of tuna indicated that PBF was caught in association with other tunas in a single set. Additionally, while the regulations may impact operations relative to historic targeting strategies, 2018 landings data indicate that a reduction in PBF trip limits to 2 mt is not expected to have a significant impact on revenue. This is evidenced by a shift away from targeted PBF trips after 2 mt trip limits were imposed in 2018. PBF purse seine fleet revenue declined by an average of $411,000 from 2016-2017 to 2018. Over the same period, revenue from skipjack tuna on purse seine trips increased by a total of $911,000, and yellowfin revenues increased by $229,000. Because the fleet was able to successfully harvest both skipjack and yellowfin in 2018 under the lower catch limits, it is not expected that the trip limits in the proposed rule will result in limiting yellowfin catches.

Comment 5: One commenter challenged NMFS' assessment that the economic impact of the rule to the purse seine fleet is not significant.

Response: This commenter did not provide specific data or evidence and NMFS did not find evidence that coastal purse seine vessels have been relying on PBF revenue after the sardine fishery closure in 2015. The coastal purse seine fleet continues to derive the majority of its revenue from market squid, with sardines having accounted for 4 percent of revenue in 2011, 2012, and 2014 (note there was no purse seine fishery for PBF in 2013). After the sardine closure, revenue from PBF has decreased relative to the coastal purse seine sector portfolio, from 4 percent to 2 percent of total landed revenue. These vessels have increased revenue from Pacific bonito, skipjack tuna, and yellowfin tuna, resulting in a 60 percent increase in total fleet revenue in the three years following the sardine closure compared to the 3 years prior to the closure.

Percentage of Total Revenue by Species for the U.S. Coastal Purse Seine Fleet
| 2011, 2012, 2014 | 2016-2018
Total Inflation-Adjusted Revenue | $24,477,811 | $39,066,168
| Percent | Percent
Pacific bluefin tuna | 4 | 2
Chub mackerel | 4 | 4
Market squid | 84 | 77
Northern anchovy | 0 | 1
Pacific bonito | 0 | 3
Pacific sardine | 4 | 0
Skipjack tuna | 0 | 3
Yellowfin tuna | 4 | 10
Other | 0 | 0

Comment 6: One commenter inquired about the process of implementing inseason actions as a result of an overestimation of catch.

Response: As stated in the rule, NMFS will make an assumption that 15 mt of PBF will be caught on each trip for which a pre-trip notification was provided. NMFS encourages vessel operators to call (562) 432-1850 with an estimate of landing quantity to provide more accurate estimates. NMFS will review landing receipts to update catch estimates and, if necessary, take inseason action, as specified in the final rule, to reverse the original action.

Comment 7: Two commenters suggested considering allocation of the catch limit based on gear types.

Response: Allocation based on gear types is outside the scope of this rulemaking; however, NMFS will be hosting a stakeholder meeting on May 2, 2019, and intends to discuss approaches to the long-term domestic management of the stock (April 12, 2019; 84 FR 14914). NMFS looks forward to continuing the discussion on topics of this nature at that meeting.

Classification

After consulting with the Department of State and the U. S. Coast Guard, the NOAA Assistant Administrator for Fisheries has determined that this rule is consistent with the TCA and other applicable laws.

This rule was determined to be not significant for purposes of Executive Order 12866.

The NOAA Assistant Administrator for Fisheries has determined that the need to conserve PBF and comply with our international obligations constitutes good cause, under 5 U.S.C. 553(d)(3), to waive the requirement for a 30-day delay in effectiveness. In recent years, PBF have remained in significant numbers in waters off of southern California, and U.S. commercial vessels currently have a greater opportunity to fish for PBF off of the U.S West Coast than in previous years. If the trip limits implemented by this rule were subject to the 30-day delay in effectiveness, and taking into account that a single trip could catch up to 75 mt, there is potential for a derby-style fishery that would result in exceeding the 425-mt catch limit for 2019 before this rule goes into effect. Although justification exists to waive the 30-day delay in effectiveness, NMFS is implementing a 7-day delay in effectiveness to provide sufficient time for currently-operating vessels to comply with the new regulations (vessels that target PBF in large quantities (i.e., purse seine vessels) typically complete their fishing trips within one to two days). As soon as the rule is published, notice will be given to fishery participants through an email sent to the IATTC distribution list. Therefore, to conserve PBF, which are overfished, and to remain in compliance with IATTC Resolutions C-18-01 and C-18-02, NMFS has determined that implementing these measures 7 days after publishing in the Federal Register is in the public's interest.

This rule contains a collection-of-information requirement subject to the Paperwork Reduction Act (PRA), which has been approved by OMB under control number 0649-0778. Public reporting burden for E-ticket submission, pre-trip notification, and voluntary pre-landing notification is estimated to average 4 minutes per response, including the time for reviewing instructions, searching existing data sources, gathering and maintaining data, and completing and reviewing the collection of information. Comments regarding this burden estimate, or any other aspect of this data collection, including suggestions for reducing the burden, may be sent to NMFS (see ADDRESSES), by email to OIRA_Submission@omb.eop.gov, or fax to (202) 395-5806. All currently approved NOAA collections of information may be viewed at: http://www.cio.noaa.gov/services_programs/prasubs.html. There is also an existing collection-of-information requirement associated with the Fishery Management Plan for U.S. West Coast Fisheries for Highly Migratory Species. These requirements have been approved by the Office of Management and Budget under Control Number 0648-0204. Notwithstanding any other provision of the law, no person is required to respond to, and no person shall be subject to penalty for failure to comply with, a collection-of-information subject to the requirements of the PRA, unless that collection-of-information displays a currently valid OMB control number.

The Chief Counsel for Regulation of the Department of Commerce certified to the Chief Counsel for Advocacy of the Small Business Administration during the proposed rule stage that, for purposes of the Regulatory Flexibility Act, this action would not have a significant economic impact on a substantial number of small entities. The factual basis for the certification was published in the proposed rule and is not repeated here. NMFS received one comment on the certification, which is addressed above under the Public Comments and Responses section. No information received during the public comment period changes NMFS' analysis. Therefore, the initial certification published with the proposed rule—that this rule is not expected to have a significant economic impact on a substantial number of small entities—remains unchanged. As a result, a regulatory flexibility analysis was not required and none was prepared.

List of Subjects in 50 CFR Part 300

Administrative practice and procedure, Fish, Fisheries, Fishing, Marine resources, Reporting and recordkeeping requirements, Treaties.

Dated: April 25, 2019.
Samuel D. Rauch, III,
Deputy Assistant Administrator for Regulatory Programs, National Marine Fisheries Service.

For the reasons set out in the preamble, 50 CFR part 300 is amended as follows:

PART 300—INTERNATIONAL FISHERIES REGULATIONS

1. The authority citation for part 300, subpart C, continues to read as follows:

Authority: 16 U.S.C. 951 et seq.

2. In § 300.24, revise paragraph (u) to read as follows:

§ 300.24 Prohibitions.

* * * * *

(u) Use a United States commercial fishing vessel in the Convention Area to target, retain on board, transship, or land Pacific bluefin tuna in contravention of § 300.25(g)(4) through (8) and (g)(10) through (11).

* * * * *

3. In § 300.25, revise paragraph (g) to read as follows:

§ 300.25 Fisheries management.

* * * * *

(g) Pacific bluefin tuna (Thunnus orientalis) commercial catch limits in the eastern Pacific Ocean for 2019-2020. The following is applicable to the U.S. commercial fishery for Pacific bluefin tuna in the Convention Area in the years 2019 and 2020.

(1) The 2019-2020 biennial limit is 630 metric tons.

(2) For the calendar year 2019, all commercial fishing vessels of the United States combined may capture, retain, transship, or land no more than 425 metric tons.

(3) In 2020, NMFS will publish a notice in the Federal Register announcing the 2020 catch limit. For the calendar year 2020, all commercial fishing vessels of the United States combined may capture, retain on board, transship, or land no more than the 2020 annual catch limit. The 2020 catch limit is the lesser of: The 2019-2020 biennial limit reduced by the amount caught by U.S. commercial vessels in 2019; or 425 metric tons.

(4) In 2019 and 2020, a 15-metric ton trip limit will be in effect until NMFS anticipates that catch will be within 50 metric tons of the catch limit, after which a 2-metric ton trip limit will be in effect upon the effective date provided in actual notice, in accordance with paragraph (g)(8) of this section. In 2020, if the catch limit is 125 mt or less, a 2-metric ton trip limit will be in effect for the entire calendar year.

(5) After NMFS determines that the catch limits under paragraphs (g)(2) and (3) of this section are expected to be reached, NMFS will close the fishery effective upon the date and time provided in the actual notice, in accordance with paragraph (g)(9) of this section. Upon the effective date in the actual notice, targeting, retaining on board, transshipping, or landing Pacific bluefin tuna in the Convention Area shall be prohibited, as described in paragraph (g)(6) of this section.

(6) After NMFS determines that the catch limits under paragraph (g)(4) of this section are expected to be reached, a 2 mt trip limit will be in effect upon the date and time provided in the actual notice, in accordance with paragraph (g)(9) of this section. Pacific bluefin tuna in excess of 2 mt already on board a vessel on the effective date and time of the actual notice may be landed within 48 hours of the effective date and time provided in the actual notice, provided a pre-trip notification has been submitted to NMFS.

(7) Beginning on the date provided in the actual notice of the fishing closure announced under paragraph (g)(5) of this section, a commercial fishing vessel of the United States may not be used to target, retain on board, transship, or land Pacific bluefin tuna captured in the Convention Area through the end of the calendar year, with the exception that any Pacific bluefin tuna already on board a fishing vessel on the effective date of the notice may be retained on board, transshipped, and/or landed within 14 days after the effective date published in the fishing closure notice, to the extent authorized by applicable laws and regulations.

(8) If an inseason action taken under paragraphs (g)(4), (5), (6), or (7) of this section is based on overestimate of actual catch, NMFS will reverse that action in the timeliest possible manner, provided NMFS finds that reversing that action is consistent with the management objectives for the affected species. The fishery will reopen effective on the date provided in the actual notice in accordance with paragraph (g)(9) of this section.

(9) Inseason actions taken under paragraphs (g)(4), (5), (6), (7), and (8) of this section will be by actual notice from posting on the National Marine Fisheries Service website (https://www.fisheries.noaa.gov/west-coast/commercial-fishing/pacific-bluefin-tuna-commercial-harvest-status) and a United States Coast Guard Notice to Mariners. The Notice to Mariners will be broadcast three times daily for four days. This action will also be published in the Federal Register as soon as practicable. Inseason actions will be effective from the time specified in the actual notice of the action (i.e., website posting and United States Coast Guard Notice to Mariners), unless the inseason action is published in the Federal Register at an earlier time.

(10) For a purse seine vessel to retain or land greater than 2 metric tons of Pacific bluefin tuna while the 15-metric ton trip limit is in effect, the vessel owner or operator must provide a pre-trip notification to NMFS 24 hours in advance of departing on the fishing trip. The notification shall be made to NMFS at pbf.notifications@noaa.gov, and must include the owner or operator's name, contact information, vessel name, port of departure, and intended date and time of departure.

(11) As of July 1, 2019, if landing Pacific bluefin tuna into the State of California, fish landing receipts (i.e., E-tickets) must be submitted within 24 hours to the California Department of Fish and Wildlife in accordance with the requirements of applicable State regulations.

[FR Doc. 2019-08804 Filed 4-30-19; 8:45 am]

BILLING CODE 3510-22-P